NATIONAL SCIENCE FOUNDATION

U.S. Chief Financial Officer Council; Grants Policy Committee

ACTION: Notice of open stakeholder webcast meeting.

SUMMARY: This notice announces the fourth of a series of open stakeholder webcast meetings sponsored by the Grants Policy Committee (GPC) of the U.S. Chief Financial Officers Council.

DATES: The GPC will hold a webcast meeting on Tuesday, October 30, 2007 from 2-3:30 p.m., Eastern Standard Time. The webcast will be broadcast live.

ADDRESSES: The GPC October 30 webcast meeting will be broadcast from and held in Room B-180 of the U.S. Department of Housing and Urban Development (HUD), 451 7th Street, SW., Washington, DC 20410. Seating is limited—the first 50 people to respond, and receive confirmation of the response, can be part of the live audience. Both federal and non-federal employees must R.S.V.P. to reserve your seat by contacting Charisse Carney-Nunes at GPCWebcast@nsf.gov. All who have reserved seating must arrive at the HUD building 15 minutes prior to broadcast (arrive on the North side of the building). You must have a photo ID to gain access and will have to go through the security screening. The GPC encourages non-federal organizations staffs and members to attend the meeting in person or via webcast.

Overview: The subject of this webcast meeting will be the draft strategic plan of the Grants Policy Committee, and the potential future products that the GPC may undertake in order to implement its strategy.

Further Information About the GPC Webcast: Questions on the webcast should be directed to Charisse Carney-Nunes, National Science Foundation, 4201 Wilson Boulevard, Arlington, VA 22230; e-mail, GPCWebcast@nsf.gov. Information and materials that pertain to this webcast meeting, including the call-in telephone number and the agenda will be posted on the Federal Grants Streamlining Initiative (FGSI) Web site at http://www.grants.gov/aboutgrants/grants_news.jsp under “October 30 Meeting Materials.” The link to view the webcast will be posted on this site, along with Webcast instructions. After the meeting, a link to its recording will be posted on the FGSI Web site for at least 90 days.

Comments Submission Information: You may submit comments during the webcast meeting via telephone or e-mail. The call-in telephone number, which may be used only DURING the live webcast, is 202-708-0995. The e-mail address for comments, which should be used only DURING the webcast is HUDTV@HUD.GOV. The e-mail address for comments after the webcast is GPCWebcast@nsf.gov. You may submit after webcast comments via e-mail through close of business Tuesday, November 13, 2007.

SUPPLEMENTARY INFORMATION: This webcast meeting has been made possible by the cooperation of the National Science Foundation, HUD, and the GPC.

Webcast Materials: Webcast materials including the agenda, the GPC's draft Strategic Plan, its list of potential future projects, webcast meeting slides, and feedback form are posted under the October 30, 2007 meeting materials. http://www.grants.gov/aboutgrants/grants_news.jsp.

Purpose of the webcast meeting: The purpose of the webcast meeting is to receive public input on the draft strategic plan of the GPC. Specifically, the Committee seeks stakeholder input into the language describing the mission, vision, goals, and objectives of the GPC. The Committee will also seek input from the public regarding a list of potential future products that the GPC may undertake in order to implement its strategy. This draft list will present examples of possible products the GPC might undertake in order to implement its Strategic Plan. The list is not intended to represent a comprehensive list of all possible GPC products, nor does the list guarantee that the GPC will produce all of the listed products.

The webcast materials are being offered to stimulate public input into the GPC's long-term planning and prioritization efforts and to receive input from stakeholders to inform government efforts as they relate to streamlining and stewardship of federal policy and practice relating to grants, cooperative agreements, and federal financial assistance.

Meeting structure and agenda: The October 30 webcast meeting will have the following structure and agenda:

(1) Welcome by the host agency;

(2) Presentation of Draft Strategic Plan by the Chair of the GPC;

(3) Presentation of list of potential future products by the Chair of the GPC;

(4) Participants' discussion, questions and comments.

Background: Background about the FGSI is set forth in the Federal Register published on September 13, 2006 (71 FR 54098).

Dated: October 3, 2007.
Thomas Cooley,
Chair, Grants Policy Committee of the U.S. Chief Financial Officer Council.

[FR Doc. E7-19915 Filed 10-9-07; 8:45 am]

BILLING CODE 7555-01-P